DEPARTMENT OF HEALTH AND HUMAN SERVICES

National Institutes of Health

National Institute of Neurological Disorders and Stroke; Amended Notice of Meeting

Notice is hereby given of a change in the meeting of the Clinical Trials Subcommittee of the National Advisory Neurological Disorders and Stroke Council, previously scheduled for May 27, 2009, 6 p.m. to 7:30 p.m., Hyatt Regency Bethesda, One Bethesda Metro Center, 7400 Wisconsin Avenue, Bethesda, MD 20814 which was published in the Federal Register on April 22, 2009, 74FRN18389.

The closed session of the Clinical Trials Subcommittee meeting will now be held on May 28, 2009 from 8 a.m. to 9:45 a.m. and the open session will be held on May 28, 2009 from 9:45 a.m. to 10 a.m. in Building 31 on the NIH Campus. The meeting is partially Closed to the public.

Dated: April 29, 2009.
Jennifer Spaeth,
Director, Office of Federal Advisory Committee Policy.

[FR Doc. E9-10423 Filed 5-6-09; 8:45 am]

BILLING CODE 4140-01-P